DEPARTMENT OF ENERGY

Federal Energy Regulatory Commission

[Docket No. AD20-18-000]

Offshore Wind Integration in RTOs/ISOs; Supplemental Notice of Technical Conference

On June 17, 2020, the Commission issued a notice in the above-captioned proceeding and provided self-nomination instructions for those wishing to participate as panelists. However, due to unforeseen circumstances, the self-nomination form is not accepting submissions. Therefore, in this supplemental notice,¹ we request that individuals interested in participating as panelists—including individuals who used the web-based form prior to the date of this notice—submit their self-nominations by Friday, August 14, 2020 at 5:00 p.m., via email to Ben Foster, ben.foster@ferc.gov, and to Sarah McKinley, sarah.mckinley@ferc.gov.

¹ 18 CFR 2.1(a)(1)(xi) (2019).

The subject line of your email should specify, “Speaker nomination for Offshore Wind Integration Technical Conference.” Please include the following information in your nomination:

• First name

• Last name

• Title

• Company or organization

• Address

• City, State, and Zip Code

• Email address

• Telephone number

• Whether you are speaking on behalf of an organization

• Speaker bio (1-2 paragraphs)

• Topic(s) to be addressed

For more information, please contact Ben Foster, 202-502-6149, ben.foster@ferc.gov, or Sarah McKinley, 202-502-8368, sarah.mckinley@ferc.gov.

Dated: July 17, 2020.
Nathaniel J. Davis, Sr.,
Deputy Secretary.

[FR Doc. 2020-15976 Filed 7-28-20; 8:45 am]

BILLING CODE 6717-01-P